DEPARTMENT OF TRANSPORTATION

Maritime Administration (MARAD)

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the information collection abstracted below has been forwarded to the Office of Management and Budget (OMB) for review and comment. Described below is the nature of the information collection and its expected burden. The Federal Register notice with a 60-day comment period soliciting comments on the following collection was published on September 22, 2000 [65 FR 57422]. Comments were due on or before November 21, 2000. No comments were received.

DATES: Comments must be submitted on or before January 11, 2001.

FOR FURTHER INFORMATION CONTACT: Walter Lockland, Chief, Division of Operations Support, Office of Ship Operations, Maritime Administration, 400 Seventh Street, SW, Room 2123, Washington, DC 20590, telephone number 202-366-5735. Copies of this collection can also be obtained from that office.

SUPPLEMENTARY INFORMATION:

Maritime Administration

Title of Collection: “Automated Mutual-Assistance Vessel Rescue System (AMVER)”.

OMB Control Number: 2133-0025.

Type of Request: Approval of an existing information collection.

Affected Public: U.S.-flag and U.S. citizen-owned vessels that are required to respond under current statute and regulation.

Form(s): CG-4796 (MA) (Rev. 8-88).

Abstract: This collection of information is used to gather information regarding the location of U.S.-flag vessels and certain other U.S. citizen-owned vessels for the purpose of Search and Rescue in the saving of lives at sea and for the marshalling of ships for National Defense and safety purposes. This collection consists of vessels that transmit the positions through various electronic means with the most commonly used AMVER/SEAS “compressed message” sent via INMARSAT-C. The information collected will be used to facilitate the immediate marshalling of ships for National Defense purposes and for the purpose of maintaining a current plot for Search and Rescue purposes for safety of life at sea.

Annual Estimated Burden Hours: 2,598 hours.

Addresses: Send comments to the Office of Information and Regulatory Affairs, Office of Management and Budget, 725-17th Street, NW, Washington, D.C. 20503, Attention: MARAD Desk Officer.

Comments: Comments should refer to the docket number that appears at the top of this document. Written comments may be submitted to the Docket Clerk, U.S. DOT Dockets, Room PL-401, 400 Seventh Street, SW, Washington, D.C. 20590. Comments may also be submitted by electronic means via the Internet at http://dmses.dot.gov/submit. Specifically, address whether this information collection is necessary for proper performance of the function of the agency and will have practical utility, and clarity of the information to be collected. All comments received will be available for examination at the above address between 10 a.m. and 5 p.m., Monday through Friday, except Federal Holidays. An electronic version of this document is available on the World Wide Web at http://dms.dot.gov.

By Order of the Maritime Administrator.
Dated: December 6, 2000.
Joel C. Richard,
Secretary, Maritime Administration.

[FR Doc. 00-31527 Filed 12-11-00; 8:45 am]

BILLING CODE 4910-81-P